DEPARTMENT OF HEALTH AND HUMAN SERVICES

Meeting of the Advisory Committee on Minority Health

AGENCY: Office of Minority Health, Office of the Secretary, U.S. Department of Health and Human Services.

ACTION: Notice of meeting.

SUMMARY: As stipulated by the Federal Advisory Committee Act, the U.S. Department of Health and Human Services (HHS) is hereby giving notice that the Advisory Committee on Minority Health (ACMH) will hold a meeting. This meeting will be open to the public. Preregistration is required for the public to attend the meeting, provide comments, and/or distribute printed material(s) to ACMH members. Information about the meeting is available from the designated contact person and will be posted on the HHS Office of Minority Health (OMH) website: www.minorityhealth.hhs.gov. Information about ACMH activities can be found on the OMH website under the heading About OMH, Committees and Working Groups.

DATES: The ACMH meeting will be held on February 13-14, 2024 from 8:30 a.m. to 5:30 p.m. EST each day. If the Committee completes its work before 5:30 p.m., the meeting will adjourn early.

ADDRESSES: The meeting will be held at the Tower Building at 1101 Wootton Parkway, Lower Level Conference Room, Rockville, Maryland 20852 and will be accessible by webcast. Members of the public must register for the meeting by 5:00 p.m. EST on January 30, 2024. Registered webcast participants will receive webcast access information prior to the meeting.

FOR FURTHER INFORMATION CONTACT: Violet Woo, Designated Federal Officer, Advisory Committee on Minority Health, OMH, HHS, Tower Building, 1101 Wootton Parkway, Suite 100, Rockville, Maryland 20852. Phone: 240-453-6816; email: OMH-ACMH@hhs.gov.

SUPPLEMENTARY INFORMATION: In accordance with Public Law 105-392, the ACMH was established to provide advice to the Deputy Assistant Secretary for Minority Health on the development of goals and program activities related to OMH's duties. The topic to be discussed during the meeting is the implementation of the anticipated updates to the Office of Management and Budget (OMB) federal race and ethnicity data collection standards. The focus will be on opportunities for supporting community awareness of and engagement in future efforts to implement the revised race and ethnicity data collection standards, anticipated to be published by the OMB no later than Summer 2024. The recommendations will be given to the Deputy Assistant Secretary for Minority Health to inform efforts related to implementation of the revised OMB standards. Information on OMB's Interagency Technical Working Group on Race and Ethnicity Standards can be found on this website: spd15revision.gov.

The meeting is open to the public. Any individual who wishes to attend the meeting must register by sending an email to OMH-ACMH@hhs.gov by 5:00 p.m. EST on January 30, 2024. Each registrant should provide their name, affiliation, phone number, email address, days attending, and if participation is in-person or via webcast. Registrants will receive webcast access information via email. Individuals who plan to attend and need special assistance, such as sign language interpretation or other reasonable accommodations, should contact OMH-ACMH@hhs.gov and reference this meeting. Requests for special accommodation should be made during registration or at least ten (10) business days prior to the meeting.

Registered members of the public will have an opportunity to provide comments at the meeting. Public comments will be limited to two minutes per speaker during the time allotted. Individuals of the public may also submit and distribute electronic or printed statements or material(s) related to this meeting's topic. Written comments should not exceed two pages in length. Individuals planning to submit material should email the material to OMH-ACMH@hhs.gov at least five (5) business days prior to the meeting.

Violet Woo,
Designated Federal Officer, Advisory Committee on Minority Health.

[FR Doc. 2023-28101 Filed 12-20-23; 8:45 am]

BILLING CODE 4150-29-P